DEPARTMENT OF EDUCATION

[Docket No.: ED-2013-ICCD-0157]

Agency Information Collection Activities; Comment Request; The Impact of Professional Development in Fractions for Fourth Grade

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before April 7, 2014.

ADDRESSES: Comments submitted in response to this notice should be submitted electronically through the Federal eRulemaking Portal at http://www.regulations.gov by selecting Docket ID number ED-2013-ICCD-0157 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E103, Washington, DC 20202.

FOR FURTHER INFORMATION CONTACT: For specific questions related to collection activities, please contact Sandra Garcia, 202-219-1597.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: The Impact of Professional Development in Fractions for Fourth Grade.

OMB Control Number: 1850—NEW.

Type of Review: A new information collection.

Respondents/Affected Public: Individuals or households.

Total Estimated Number of Annual Responses: 4,923.

Total Estimated Number of Annual Burden Hours: 595.

Abstract: OMB clearance is requested for a randomized control trial study of the impact of professional development in fractions for fourth grade teachers on student achievement and teacher knowledge in 84 elementary schools from Georgia and South Carolina for one academic year. Schools below the state median on the respective state assessment will be recruited. Random assignment will be conducted at the school-level. Teachers in the treatment schools will participate in 8 three-hour training sessions during the Fall semester with additional homework lessons. Teachers in control schools will receive business-as-usual professional development. Teachers will participate in the following data collection activities: consent and demographic form, teacher knowledge measure of fractions (pre- and post-test), and 9 monthly professional development surveys. Grade 4 students will be assessed with a fractions measure. REL Southeast will conduct the study. This OMB clearance request is to collect data from approximately 252 teachers.

Dated: February 28, 2014.
Kate Mullan,
Acting Director, Information Collection Clearance Division, Privacy, Information and Records Management Services, Office of Management.

[FR Doc. 2014-04903 Filed 3-5-14; 8:45 am]

BILLING CODE 4000-01-P